ENVIRONMENTAL PROTECTION AGENCY

[FRL-7156-2]

Agency Collection Activities: Proposed Collection; Comment Request; Investigations into Possible Noncompliance of Motor Vehicles

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Investigations into Possible Noncompliance of Motor Vehicles; EPA ICR Number 222.06; OMB Number 2060-0086 expiring June 30, 2002. Before submitting the ICR to OMB for review and approval, EPA is soliciting comments on specific aspects of the proposed information collection as described below.

DATES: Comments must be submitted on or before May 10, 2002.

ADDRESSES: Interested persons may obtain copy of the ICR without charge from: United States Environmental Protection Agency, Certification and Compliance Division; ATTN: Richard W. Nash, 2000 Traverwood Dr, Ann Arbor MI 48105.

FOR FURTHER INFORMATION CONTACT: Richard W. Nash, 2000 Traverwood Dr, Ann Arbor, MI 48105. (734) 214-4412; nash.dick@epa.gov

SUPPLEMENTARY INFORMATION: Affected entities: Entities potentially affected by this action are owners/lessees of motor vehicles.

Title: Investigations into Possible Noncompliance of Motor Vehicles; EPA ICR Number 222.06; OMB Number 2060-0086 expiring June 30, 2002.

Abstract: As part of an integrated compliance program, EPA occasionally needs to evaluate the emission performance of in-use motor vehicles. In order to perform this function, EPA must solicit certain information from the vehicle owner/lessee. Participation in the information survey, as well as the vehicle evaluation, is strictly voluntary. Typically, a group of 25 potential participants is identified. They are asked to return a postcard indicating their willingness to participate and if so, to verify some limited vehicle information. They are also asked when it would be suitable to contact them. Those willing to participate are called and asked about a half dozen questions concerning vehicle condition and maintenance. Depending on owner/lessee response, additional groups of potential participants may be contacted until a sufficient number of vehicles has been obtained.

Information collected is used to assure that vehicles procured meet certain criteria. For example, since a manufacturer's responsibility to recall passenger cars is limited to 10 years of age or 100,000 miles of use, vehicles tested to establish potential recall liability must also meet those criteria. Other testing programs and vehicle types have different criteria. All information is publicly available.

The previous description generally describes how EPA obtains information on in-use passenger cars and light trucks from individual owners and lessees. Heavy duty trucks, those commonly referred to as over “¾ ton” capacity, are usually employed commercially; typically they are part of a “fleet” of identical (or very similar) vehicles. Consequently, EPA employs a slightly different method to obtain them. Potential owners/lessees can be found in registrations lists; engine manufacturers will also supply identities of their customers. Occasionally, a fleet operator will contact EPA and volunteer to participate. Once potential sources are identified, EPA will make a brief telephone call to the fleet managers to ascertain if they wish to participate. If the response is positive, EPA will visit the fleet to inspect vehicles and review maintenance records. (Fleets typically keep very good records on each vehicle; EPA can quickly determine if a particular unit is acceptable.) A single fleet can supply multiple vehicles and, typically, is quite willing to participate. Therefore, EPA makes far fewer inquiries than with individual owners of light vehicles. Based on comments, EPA may decide to address light and heavy duty vehicles separately.

EPA uses several techniques in selecting the class or category of motor vehicles to be evaluated. First, if based on other information (e.g., defect reports, service bulletins) there is a suspicion that a problem exists; EPA may target a particular group. Second, groups with a large number of vehicles have potential for significant air quality effects; they may be selected for that reason. New emission control technology without a proven history is another factor in making selections. Finally, some vehicle classes are selected on a random basis.

An agency may not conduct or sponsor, and a person is not required to respond to, a collection of information unless it displays a currently valid OMB control number. The OMB control numbers for EPA's regulations are listed in 40 CFR part 9 and 48 CFR chapter 15. The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that approximately 1800 will be contacted, on average they will spend approximately 20 minutes each responding for a total burden of approximately 600 hours. The average reflects those who decline to participate (who will spend a short time reading the solicitation letter and discard it) as well as those who participate and will be asked a few additional questions about vehicle condition and maintenance. This collection is entirely voluntary, there are no recordkeeping requirements. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 4, 2002
Robert Brenner,
Acting Assistant Administrator, Office of Air and Radiation.

[FR Doc. 02-5740 Filed 3-8-02; 8:45 am]

BILLING CODE 6560-50-M